GENERAL SERVICES ADMINISTRATION

48 CFR Part(s) 516 and 552

[GSAR Case 2020-G526; Docket No. GSA-GSAR-2020-0013; Sequence No. 1]

RIN 3090-AK27

General Services Administration Acquisition Regulation; Task-Order and Delivery-Order Ombudsman Update

AGENCY: Office of Acquisition Policy, General Services Administration (GSA).

ACTION: Direct final rule with request for comments.

SUMMARY: This direct final rule amends the General Services Administration Acquisition Regulation (GSAR) to remove text duplicative to the Federal Acquisition Regulation (FAR) regarding the Task-Order and Delivery-Order Ombudsman.

DATES: This final rule is effective on October 19, 2020 without further notice unless adverse comments are received by September 18, 2020. If GSA receives adverse comments, we will publish a timely withdrawal in the Federal Register informing the public that the rule will not take effect.

ADDRESSES: Submit comments in response to GSAR Case 2020-G526 to: Regulations.gov: https://www.regulations.gov. Submit comments via the Federal eRulemaking portal by searching for “GSAR Case 2020-G526”. Select the link “Comment Now” that corresponds with GSAR Case 2020-G526. Follow the instructions provided at the “Comment Now” screen. Please include your name, company name (if any), and “GSAR Case 2020-G526” on your attached document.

Instructions: Please submit comments only and cite GSAR Case 2020-G526 in all correspondence related to this case. Comments received generally will be posted without change to https://www.regulations.gov, including any personal and/or business confidential information provided. To confirm receipt of your comment(s), please check https://www.regulations.gov approximately two-to-three days after submission to verify posting.

FOR FURTHER INFORMATION CONTACT: Mr. Tanner Slaughter, GSA Acquisition Policy Division, at gsarpolicy@gsa.gov, for clarification of content. For information pertaining to status or publication schedules, contact the Regulatory Secretariat at 202-501-4755. Please cite GSAR Case 2020-G526.

SUPPLEMENTARY INFORMATION:

I. Background

Federal Acquisition Circular 2019-04 made changes to FAR 16.505(b)(8), 16.506(j), and 52.216-32. These changes provided for making available to contractors under multiple-award indefinite-delivery indefinite-quantity (IDIQ) contracts the name and contact information of the contracting agency's Task-Order and Delivery-Order Ombudsman. This information is being made available pursuant to 41 U.S.C. 4106(g), which provides that all contractors awarded this type of contract shall be provided a fair opportunity to be considered for each award of an order against the contract. The Ombudsman at each agency reviews complaints raised by contractors on this type of contract and ensures that each contractor has a fair opportunity to compete for task and delivery orders.

These changes to the FAR rendered text at GSAR 516.506, 552.216-74, and 552.216-76 duplicative. Because the GSAR serves as a supplement to the FAR, it is appropriate to remove text from the GSAR when such text has become duplicative of FAR text.

II. Authority for This Rulemaking

Title 40 of the United States Code (U.S.C.) Section 121 authorizes GSA to issue regulations, including the GSAR, to control the relationship between GSA and contractors. The GSAR supplements the FAR. By eliminating GSAR text that is duplicative of FAR text, GSA is acting in keeping with the GSAR's purpose as a supplementary acquisition regulation.

III. Discussion and Analysis

GSA is amending the GSAR at parts 516, Types of Contracts, and 552, Solicitation Provisions and Contract Clauses, to remove language made duplicative by changes to the FAR published at 84 FR 38836. Part 516 includes language prescribing the use of Task-Order and Delivery-Order Ombudsman clauses, which is removed to avoid duplication of language in FAR part 16. Part 552 includes the Task-Order and Delivery-Order Ombudsman clauses prescribed in part 516, which are removed to avoid duplication of clauses in FAR part 52.

IV. Executive Order 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of Executive Order 12866, Regulatory Planning and Review, dated September 30, 1993. This rule is not a major rule under 5 U.S.C. 804.

V. Executive Order 13771

This final rule was not subject to E.O. 13771, because this rule is not a significant regulatory action under E.O. 12886.

VI. Regulatory Flexibility Act

GSA does not expect this rule to have a significant economic impact on a substantial number of small entities within the meaning of the Regulatory Flexibility Act, 5 U.S.C. 601, et seq.

VII. Paperwork Reduction Act

The final rule does not contain any information collection requirements that require the approval of the Office of Management and Budget under the Paperwork Reduction Act (44 U.S.C. chapter 35).

List of Subjects in 48 CFR Parts 516 and 552

Government procurement.

Jeffrey A. Koses,
Senior Procurement Executive, Office of Acquisition Policy, Office of Governmentwide Policy, General Services Administration.

Therefore, GSA amends 48 CFR parts 516 and 552 as set forth below:

Authority: 40 U.S.C. 121(c).

PART 516—TYPES OF CONTRACTS

516.506 [Amended]

1. Amend section 516.506 by—

a. Removing from paragraph (a), “authorizes FAS” and adding “authorizes the Federal Acquisition Service (FAS)” in its place.

b. Removing paragraphs (b) and (d); and

c. Redesignating paragraphs (c) and (e) as paragraphs (b) and (c) respectively.

PART 552—SOLICITATION PROVISIONS AND CONTRACT CLAUSES

552.216-73 [Amended]

2. Revise section 552.216-73 by—

a. Removing from the introductory text “As prescribed in 516.506(c)” and adding “As prescribed in 516.506(b)” in its place.

b. Removing from the introductory text of Alternate I, “As prescribed in 516.506(c)” and adding “As prescribed in 516.506(b)” in its place.

552.216-74 [Removed]

3. Remove and reserve section 552.216-74.

552.216-75 [Amended]

4. Revise section 552.216-75 by removing from the introductory text “As prescribed in 516.506(d)” and adding “As prescribed in 516.506(c)” in its place.

552.216-76 [Removed]

5. Remove and reserve subsection 552.216-76.

[FR Doc. 2020-16115 Filed 8-18-20; 8:45 am]

BILLING CODE 6820-61-P